DEPARTMENT OF TRANSPORTATION

Federal Aviation Administration

Notice of Meeting of the National Parks Overflights Advisory Group

ACTION: Notice of meeting.

SUMMARY: The Federal Aviation Administration (FAA) and the National Park Service (NPS), in accordance with the National Parks Air Tour Management Act of 2000, announce the next meeting of the National Parks Overflights Advisory Group (NPOAG). This notification provides the date, format, and agenda for the meeting.

DATES: The NPOAG will meet on January 22, 2021 from 10:30 a.m. to 1:30 p.m. Pacific Time.

ADDRESSES: The meeting will be conducted virtually. Prior to the meeting, information about how the public can view the meeting will be posted on the NPOAG website (https://www.faa.gov/about/office_org/headquarters_offices/arc/programs/air_tour_management_plan/parks_overflights_group/).

FOR FURTHER INFORMATION CONTACT: Keith Lusk, AWP-1SP, Special Programs Staff, Federal Aviation Administration, Western-Pacific Region Headquarters, 777 South Aviation Boulevard, Suite 150, El Segundo, CA 90245, telephone: (424) 405-7017, email: Keith.Lusk@faa.gov.

SUPPLEMENTARY INFORMATION:

Background

The National Parks Air Tour Management Act of 2000 (NPATMA), enacted on April 5, 2000, as Public Law 106-181, required the establishment of the NPOAG within one year after its enactment. The Act requires that the NPOAG be a balanced group of representatives of general aviation, commercial air tour operations, environmental concerns, and Native American tribes. The Administrator of the FAA and the Director of NPS (or their designees) serve as ex officio members of the group. Representatives of the Administrator and Director serve alternating 1-year terms as chairperson of the advisory group.

The duties of the NPOAG include providing advice, information, and recommendations to the FAA Administrator and the NPS Director on: implementation of Public Law 106-181; quiet aircraft technology; other measures that might accommodate interests to visitors of national parks; and at the request of the Administrator and the Director, on safety, environmental, and other issues related to commercial air tour operations over national parks or tribal lands.

Agenda for the January 22, 2021 NPOAG Meeting

The agenda for the meeting will be posted on the NPOAG website (https://www.faa.gov/about/office_org/headquarters_offices/arc/programs/air_tour_management_plan/parks_overflights_group/) one week prior to the meeting and focus primarily on current FAA and NPS work to prepare air tour management plans at 23 parks nationwide as a result of a recent court order.

Attendance at the Meeting and Submission of Comments

Although this is not a public meeting, interested persons may attend virtually and can view the meeting and listen to the proceedings. Information about how the public can view the meeting will be posted on the NPOAG website (https://www.faa.gov/about/office_org/headquarters_offices/arc/programs/air_tour_management_plan/parks_overflights_group/) prior to the meeting. To submit written comments regarding the meeting or to sign up for verbal public comment, contact the person listed under FOR FURTHER INFORMATION CONTACT. Verbal comment time will be limited to 3 minutes each and the number of commenters may be capped. Written comments will not be limited or capped and will be included in the meeting notes.

Record of the Meeting

If you cannot attend the virtual NPOAG meeting, a summary record of the meeting will be made available under the NPOAG section of the FAA ATMP website at:

http://www.faa.gov/about/office_org/headquarters_offices/arc/programs/air_tour_management_plan/parks_overflights_group/minutes.cfm

or through the Special Programs Staff, Western-Pacific Region Headquarters, 777 South Aviation Boulevard, Suite 150, El Segundo, CA 90245, telephone: (424) 405-7017.

Issued in El Segundo, CA on December 15, 2020.
Keith Lusk,
Program Manager, Special Programs Staff, Western-Pacific Region.

[FR Doc. 2020-28035 Filed 12-18-20; 8:45 am]

BILLING CODE 4910-13-P